DEPARTMENT OF THE INTERIOR

Bureau of Land Management

[BLM_MT_FRN_MO#4500172285]

Notice of Proposed Withdrawal Extension and Public Meeting, Pryor Mountain Wild Horse Range; Wyoming

AGENCY: Bureau of Land Management, Interior.

ACTION: Notice of proposed withdrawal extension.

SUMMARY: The Secretary of the Interior proposes to extend Public Land Order (PLO) No. 7628 for an additional 20-year term. PLO No. 7628 withdrew 1,960.10 acres of public lands in Big Horn County, Wyoming, from settlement, sale, location, or entry under the general land laws, including the United States mining laws, subject to valid existing rights, to protect the Pryor Mountain Wild Horse Range. The withdrawal created by PLO No. 7628 will expire on March 7, 2025, unless extended. This notice announces to the public the opportunity to comment on the proposal and announces the date, time, and location of the public meeting to be held in conjunction with this withdrawal extension application.

DATES: Interested parties who wish to submit comments, suggestions, or objections in connection with the withdrawal extension application may submit their views in writing to the Billings Field Office Manager by April 16, 2024 to the address below. Notice is hereby given that the Bureau of Land Management (BLM) will hold a public meeting in connection with the withdrawal extension application on February 29, 2024 at 4 p.m. at the Lovell Community Center, 1925 US 310, Lovell, WY 82431.

ADDRESSES: Written comments may be mailed or hand delivered to BLM, Billings Field Office Manager, Attn: Pryor Mountain Proposed Withdrawal Extension, 5001 Southgate Drive, Billings, Montana 59101.

FOR FURTHER INFORMATION CONTACT: Marzha Fritzler, BLM Realty Specialist, Billings Field Office, (406) 896-5244, or via email at mfritzler@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal established by PLO No. 7628 (70 FR 11271, March 8, 2005) and serialized as WYW-152420 will expire on March 7, 2025, unless extended. At the request of the BLM, the Secretary is proposing to extend PLO No. 7628 for an additional 20-year term for the protection of wild horse and wildlife habitat, and watershed, recreation, cultural, and scenic values within the Pryor Mountain Wild Horse Range.

The proposed withdrawal extension would encompass the same 1,960.10 acres withdrawn in 2005 by PLO No. 7628. The BLM has updated the legal description of the lands to conform to Specifications for Descriptions of Land Status (2017) and described as follows:

Sixth Principal Meridian, Wyoming

T. 58 N., R. 95 W.,

Sec. 19, lot 2 and SE¼NE¼;

Sec. 20, N½SW¼, SE¼SW¼, and SE¼;

Sec. 21, A portion of land lying southwesterly of a diagonal line drawn from the ¼ cor. of secs. 20 and 21 to the ¼ sec. cor. of secs. 21 and 28;

Sec. 23, NE¼SW¼;

Sec. 26, SW¼NW¼ and W½SW¼;

Sec. 27, S½;

Sec. 28, NW¼NE¼, S½NE¼, and S½;

Sec. 29, NE¼, NE¼NW¼, and NE¼SE¼;

Sec. 33, NE¼ and NE¼NW¼;

Sec. 34, NW¼.

The area described contains 1,960.10 acres.

The use of a right-of-way would not provide adequate protection.

There are no suitable alternative sites available.

Water is required and protected pursuant to a Public Water Reserve No. 107, established pursuant to an Executive order dated April 17, 1926.

Comments, including names and street addresses of respondents, will be available for public review at the Billings Field Office, 5001 Southgate Drive, Billings, Montana 59101, during regular business.

Before including your address, phone number, email address, or other personal identifying information in your comment, be advised that your entire comment—including your personal identifying information—may be made publicly available at any time. While you can ask the BLM in your comment to withhold your personal identifying information from public review, we cannot guarantee that we will be able to do so.

This withdrawal extension proposal will be processed in accordance with the regulations set forth in 43 CFR 2310.4.

(Authority: 43 U.S.C. 1714)

Sonya I. Germann,
Montana State Director.

[FR Doc. 2024-00775 Filed 1-16-24; 8:45 am]

BILLING CODE 4331-20-P